DEPARTMENT OF JUSTICE

Notice of Lodging of Consent Decree Pursuant to the Clean Air Act

In accordance with Department policy, 28 U.S.C. 50.7, notice is hereby given that a proposed Consent Decree in United States v. Earthgrains Baking Companies, Inc., et al., Civil Action No. 4-03CV01043SNL, was lodged on July 31, 2003, with the United States District Court for the Eastern District of Missouri.

In this action the United States sought civil penalties and injunctive relief for Defendants' violations of the industrial refrigerant, repair, testing, record-keeping, and reporting regulations at 40 CFR, part 82, subpart F, §§ 82.156-82.166 (“Recycling and Emissions Reduction”), promulgated pursuant to subchapter VI of the Act (“Stratospheric Ozone Protection”), 42 U.S.C. 7671-7671q.

The Consent Decree settles an action brought under section 113 of the Clean Air Act, 42 U.S.C. 7413. The Consent Decree provides that Earthgrains Baking Companies, Inc., et al., will pay the United States $5.25 million in civil penalties, and perform extensive injunctive relief by retrofitting, replacing, or retiring a total of 264 Industrial Refrigeration Appliances and Commercial Refrigeration Appliances that presently contain ozone depleting substances with non-ozone depleting substances (e.g. glycol, water, ammonia, etc).

The Department of Justice will receive, for a period of thirty (30) days from the date of this publication, comments relating to the proposed Consent Decree. Comments should be addressed to the Assistant Attorney General for the Environment and Natural Resources Division, Department of Justice, Washington, D.C. 20530, and should refer to United States v. Earthgrains Baking Companies, Inc., et al., D.J. Ref. #90-5-2-1-07388.

The proposed Consent Decree may be examined at the office of the United States Attorney, Eastern District of Missouri, Thomas F. Eagleton U.S. Courthouse, 111 South 10th Street, Room 20.333, St. Louis, Missouri 63102; the Headquarters Office of the Environmental Protection Agency, 1200 Pennsylvania Avenue, NW., Washington, DC 20460. During the public comment period, the Consent Decree may also be examined on the following Department of Justice Web site, http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $10.00 (25 cents per page reproduction costs), payable to the U.S. Treasury.

Robert Maher,
Assistant Section Chief, Environmental Enforcement Section, Environment and Natural Resources Division.

[FR Doc. 03-21392 Filed 8-20-03; 8:45 am]

BILLING CODE 4410-15-M